DEPARTMENT OF HOMELAND SECURITY

Federal Emergency Management Agency

[Docket ID: FEMA-2022-0048; OMB No. 1660-0009]

Agency Information Collection Activities: Submission for OMB Review, Comment Request; The Declaration Process: Requests for Preliminary Damage Assessment (PDA), Requests for Supplemental Federal Disaster Assistance, Appeals, and Requests for Cost Share Adjustments

AGENCY: Federal Emergency Management Agency, Department of Homeland Security.

ACTION: 30-Day notice of revision and request for comments.

SUMMARY: The Federal Emergency Management Agency (FEMA) will submit the information collection abstracted below to the Office of Management and Budget for review and clearance in accordance with the requirements of the Paperwork Reduction Act of 1995. The submission seeks comments concerning the Declaration Process: Requests for Preliminary Damage Assessment (PDA), Requests for Supplemental Federal Disaster Assistance, Appeals, and Requests for Cost Share Adjustments collection. This collection allows states and Tribes to request a major disaster or emergency declaration.

DATES: Comments must be submitted on or before March 29, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Requests for additional information or copies of the information collection should be made to Director, Information Management Division, 500 C St. SW, Washington, DC 20472, email address: FEMA-Information-Collections-Management@fema.dhs.gov or Dean Webster, Declarations Unit, Federal Emergency Management Agency at (202) 646-2833 or Dean.Webster@fema.dhs.gov.

SUPPLEMENTARY INFORMATION: Under sections 401 and 501 of the Robert T. Stafford Disaster Relief and Emergency Assistance Act (Stafford Act) (42 U.S.C 5170 and 5190), if a state or Tribe is impacted by an event of the severity and magnitude that is beyond its response capabilities, the state Governor or Chief Executive may seek a declaration by the President that a major disaster or emergency exists. Any major disaster or emergency request must be submitted through FEMA, which evaluates the request and makes a recommendation to the President about what response action to take. If the major disaster or emergency declaration request is granted, the state or Tribe may be eligible to receive assistance under 42 U.S.C. 5170a-5170c; 5172-5186; 5189c-5189d; and 5192. A state or Tribe may appeal denials of a major disaster or emergency declaration request for determinations under section 44 CFR 206.46 and seek an adjustment to the cost share percentage under section 44 CFR 206.47. FEMA is revising the currently approved information collection to account for an update in the estimates of the number of disaster declaration requests received each year.

This proposed information collection previously published in the Federal Register on December 12, 2022, at 87 FR 76067 with a 60-day public comment period. No comments were received. This notice also corrects two typographical errors in the previously published notice, which listed the number of respondents as 70 when the correct number of respondents is 140 and the estimated number of responses as 120 when the correct number of responses is 240. The purpose of this notice is to notify the public that FEMA will submit the information collection abstracted below to the Office of Management and Budget for review and clearance.

Collection of Information

Title: The Declaration Process: Requests for Preliminary Damage Assessment (PDA), Requests for Supplemental Federal Disaster Assistance, Appeals, and Requests for Cost Share Adjustments.

Type of Information Collection: Revision of a currently approved information collection.

OMB Number: 1660-0009.

FEMA Forms: FEMA Form FF-104-FY-22-232 (formerly 010-0-13), Request for Presidential Disaster Declaration Major Disaster or Emergency.

Abstract: When a disaster occurs, the Governor of the state or the Chief Executive of an affected Indian Tribal government may request a major disaster declaration or an emergency declaration. The Governor or Chief Executive should submit the request to the President through the appropriate Regional Administrator to ensure prompt acknowledgement and processing. The information obtained by joint Federal, state, and local preliminary damage assessments will be analyzed by FEMA regional senior level staff. The regional summary and the regional analysis and recommendation will include a discussion of state and local resources and capabilities, and other assistance available to meet the disaster related needs. The FEMA Administrator provides a recommendation to the President and also provides a copy of the Governor's or Chief Executive's request. In the event the information required by law is not contained in the request, the Governor's or Chief Executive's request cannot be processed and forwarded to the White House. In the event the Governor's request for a major disaster declaration or an emergency declaration is not granted, the Governor or Chief Executive may appeal the decision.

Affected Public: State, local or Tribal governments.

Estimated Number of Respondents: 140.

Estimated Number of Responses: 240.

Estimated Total Annual Burden Hours: 4,040.

Estimated Total Annual Cost: $208,218.

Estimated Respondents' Operation and Maintenance Costs: $0.

Estimated Respondents' Capital and Start-Up Costs: $0.

Estimated Total Annual Cost to the Federal Government: $9,193,769.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Millicent Brown Wilson,
Records Management Branch Chief, Office of the Chief Administrative Officer, Mission Support, Federal Emergency Management Agency, Department of Homeland Security.

[FR Doc. 2023-03992 Filed 2-24-23; 8:45 am]

BILLING CODE 9111-24-P